DEPARTMENT OF TRANSPORTATION

Federal Aviation Administration

[Policy Statement No. PS-ANM100-1986-00051]

Policy Regarding Use of H-11 Bolts in Primary Structure on Transport Airplanes

AGENCY: Federal Aviation Administration (FAA), DOT.

ACTION: Notice of cancellation of policy statement.

SUMMARY: The Federal Aviation Administration (FAA) announces the cancellation of Policy Statement Number PS-ANM100-1986-00051. The policy statement is cancelled because it was superseded by an advisory circular (AC) and is no longer necessary.

DATES: This policy statement is cancelled on March 11, 2016.

FOR FURTHER INFORMATION CONTACT: Ian Won, Federal Aviation Administration, Transport Airplane Directorate, Transport Standards Staff, Airframe and Cabin Safety Branch, 1601 Lind Avenue SW., Renton, WA 98057-3356; telephone (425) 227-2145; fax (425) 227-1320; email: Ian.Y.Won@faa.gov.

SUPPLEMENTARY INFORMATION:

Background

On May 16, 1986, the Manager, Transport Airplane Directorate, Aircraft Certification Service, issued Policy Statement Number PS-ANM100-1986-00051, Policy Regarding Use of H-11 Bolts in Primary Structure on Transport Airplanes. This policy statement addressed the adverse service history on H-11 bolts used in primary structure.

The FAA issued AC 20-127, Use of Society of Automotive Engineers (SAE) Class H11 Bolts, on July 8, 1987. The AC incorporates the same guidance as the older policy statement. The FAA should have cancelled the policy when they issued the AC but overlooked it.

Cancellation of Policy Statement

As a result of the issuance of AC 20-127, Policy Statement Number PS-ANM100-1986-00051 is no longer in effect and is herewith cancelled.

Issued in Renton, Washington, on March 1, 2016.
Michael Kaszycki,
Acting Manager, Transport Airplane Directorate, Aircraft Certification Service, ANM-100.

[FR Doc. 2016-05532 Filed 3-10-16; 8:45 am]

BILLING CODE 4910-13-P